DEPARTMENT OF VETERANS AFFAIRS

Nondiscrimination on the Basis of Sex in Education Programs or Activities; Receiving Federal Financial Assistance

AGENCY: Department of Veterans Affairs.

ACTION: Notice.

SUMMARY: In accordance with Subpart F of the final common rule for the enforcement of Title IX of the Education Amendments of 1972, as amended (“Title IX”), this notice lists Federal financial assistance administered by the Department of Veterans Affairs (VA) that is covered by Title IX. Title IX prohibits recipients of Federal financial assistance from discriminating on the basis of sex in education programs or activities. Subpart F of the Title IX common rule requires each Federal agency that awards Federal financial assistance to publish in the Federal Register a notice of the Federal financial assistance covered by the Title IX regulations within sixty (60) days after the effective day of the final common rule. The final common rule for the enforcement of Title IX was published in the Federal Register by twenty-one (21) Federal agencies, including VA, on August 30, 2000 (65 FR 52857-52895).

FOR FURTHER INFORMATION CONTACT: Tyrone Eddins, Office of Resolution Management, at (202) 273-6522; or Royce Smith, Office of General Counsel, at (202) 273-6374, Department of Veterans Affairs, 810 Vermont Avenue, NW, Washington, DC 20420.

SUPPLEMENTARY INFORMATION: Title IX prohibits recipients of Federal financial assistance from discriminating on the basis of sex in educational programs or activities. Specifically, the statute states that no person in the United States shall, on the basis of sex, be excluded from participation in, be denied the benefits of, or be subjected to discrimination under any education program or activity receiving Federal financial assistance, with specific exceptions for various entities, programs, and activities. 20 U.S.C. 1681(A). Title IX and the Title IX common rule prohibit discrimination on the basis of sex in the operation of, and the provision or denial of benefits by, education programs or activities conducted not only by educational institutions but by other entities as well, including, for example, law enforcement agencies, departments of corrections, and for profit and nonprofit organizations.

List of Federal Financial Assistance Administered by the Department of Veterans Affairs to Which Title IX Applies

Note: All recipients of Federal financial assistance from VA are subject to Title IX, but Title IX's anti-discrimination prohibitions are limited to the educational components of the recipient's program or activity, if any.

Failure to list a type of Federal assistance below shall not mean, if Title IX is otherwise applicable, that a program or activity is not covered by Title IX.

The following types of Federal financial assistance were derived in part from Appendix A of VA's Title VI regulations, 38 CFR part 18, subpart A:

1. Payments to State homes (38 U.S.C. 1741-1743).

2. State home facilities for furnishing domiciliary, nursing home, and hospital care (38 U.S.C. 8131-8137).

3. Space and office facilities for representatives of recognized national organizations (38 U.S.C. 5902(a)(2)).

4. Sharing of medical facilities, equipment, and information (38 U.S.C. 8151-8157).

5. Approval of educational institutions (38 U.S.C. 104).

6. Space and office facilities for representatives of State employment services (38 U.S.C. 7725(1)).

7. Medical care for survivors and dependents of certain veterans (38 U.S.C. 1713).

8. Transfers for nursing home care; adult day health care (38 U.S.C.1720).

9. Treatment and rehabilitation for alcohol or drug dependence or abuse disabilities (38 U.S.C. 1720a)

10. Assistance in establishing new medical schools; grants to affiliated medical schools; assistance to health manpower training institutions (38 U.S.C. Chapter 82).

11. Department of Veterans Affairs health professional scholarship program (38 U.S.C. 7601-7655).

12. Montgomery GI Bill (Active Duty), Chapter 30 (38 U.S.C. 3001).

13. Montgomery GI Bill (Selected Reserve), Chapter 1606 (10 U.S.C. 16131).

14. Veterans Educational Assistance Program (VEAP), Chapter 32 (38 U.S.C. 3221).

15. Vocational Rehabilitation for Disabled Veterans, Chapter 31 (38 U.S.C. 3102).

16. Survivors and Dependents Educational Assistance, Chapter 35 (38 U.S.C. 3510).

17. National Service Officers Training Program (38 U.S.C. Chapter 31).

18. Loan Guaranty Training to Private Sector Participants (e.g., lenders, servicers, appraisers, real estate professionals, builders, real estate professionals, builders, repair contractors, property managers, etc.) (38 U.S.C. Chapter 37).

Approved: December 7, 2000.
Hershel W. Gober,
Acting Secretary of Veterans Affairs.

[FR Doc. 00-32280 Filed 12-18-00; 8:45 am]

BILLING CODE 8320-01-P